DEPARTMENT OF COMMERCE

National Oceanic and Atmospheric Administration

50 CFR Part 648

[Docket No. 061020273-6321-02]

RIN 0648-XA94

Fisheries of the Northeastern United States; Summer Flounder, Scup, and Black Sea Bass Fisheries; Adjustments to the 2007 Black Sea Bass, and Total Allowable Landings (TAL) and Loligo Squid Initial Optimum Yield (IOY)

AGENCY: National Marine Fisheries Service (NMFS), National Oceanic and Atmospheric Administration (NOAA), Commerce.

ACTION: Temporary rule; restoration to the 2007 black sea bass TAL and Loligo squid IOY.

SUMMARY: NMFS restores 18,142 lb (8.23 mt) of unused research set-aside (RSA) to the 2007 black sea bass TAL and 151,235 lb (68.60 mt) of unused RSA to the Loligo squid IOY, and makes corresponding adjustments to the 2007 black sea bass commercial quota, the 2007 black sea bass recreational harvest limit, and the 2007 Loligo squid commercial Trimester II and III quotas. The adjustments are intended to return unallocated RSA quotas to the respective fisheries.

DATES: Effective July 12, 2007 through December 31, 2007.

FOR FURTHER INFORMATION CONTACT: Paul Perra, Policy Analyst, (978) 281-9153, fax (978) 281-9135, e-mail: paul.perra@noaa.gov

SUPPLEMENTARY INFORMATION: In December 2006, proposals for research projects requested more summer flounder RSA than was available through the annual 2007 summer flounder specification process (71 FR 240, December 14, 2006), and, therefore, NMFS offered the projects increased amounts of Loligo squid and black sea bass RSA, within the amounts authorized under the respective fishery management plans (FMPs), to offset the summer flounder shortfalls. The respective 2007 FMP specifications allotted RSA to the four projects as follows: 389,490 lb (176.67 mt) of summer flounder; 1,124,356 lb ( 510 mt) of Loligo squid; 360,000 lb (163.29 mt) of scup; 150,000 lb (68.04 mt) of black sea bass; and 363,677 lb (164.96 mt) of bluefish. Following the 2007 specification process, NMFS, in January 2007, through emergency rulemaking (72 FR 12, January 19, 2007), increased the 2007 summer flounder TAL from 12.98 million lb (5,887.63 mt) to 17.11 million lb (7711.07 mt). However, to insure the timely issuance of grants and exempted fishing permits required for the projects, the summer flounder RSA assigned to the project grants and specifications was not increased. Therefore, the RSA summer flounder amounts under the 2007 specifications remained lower than the amounts requested for the projects. The lower than expected summer flounder RSA amount resulted in the NOAA Grant Office negotiations that increased Loligo squid and black sea bass RSA to the projects to compensate for the summer flounder shortfall. However, the increases of black sea bass and Loligo squid to the projects did not utilize all of the 3 percent RSA allocation assigned to the projects in the 2007 specifications. Specifically, in January 2007, NOAA grant negotiations altered the projects' allocations of black sea bass and Loligo squid to 131,858 lb (59.8 mt) and 973,121 lb (441.4 mt), respectively, resulting in 18,142 lb (8.23 mt) of black sea bass and 151,235 lb (68.56 mt) of Loligo squid no longer being assigned to the RSA allocation, or to the commercial or recreational TAL or IOY. These remaining unused amounts of 18,142 lb (8.23 mt) of black sea bass and 151,235 lb (68.56 mt) of Loligo squid are being returned to their respective fishing sectors to provide the fisheries the opportunity to harvest all available TAL and IOY.

Framework Adjustment 1 to the Atlantic Mackerel, Squid, and Butterfish; Summer Flounder, Scup, and Black Sea Bass; and Atlantic Bluefish FMPs; and the RSA provisions of the Tilefish FMP implemented procedures for setting aside up to 3 percent of the annual TAL or IOY to fund research activities for summer flounder, scup, black sea bass, Atlantic mackerel, squid, and butterfish. The regulations at 50 CFR 648.21(g)(5) stipulate that, if a proposal is disapproved by the Regional Administrator, or the NOAA Grants Office, or if the allocated research quota cannot be utilized by a project, the Regional Administrator shall reallocate the unallocated or unused amount of research quota to the respective commercial and recreational fisheries by publication of a notice in the Federal Register.

Under procedures in the Summer Flounder, Scup and Black Sea Bass FMP, the resulting unused black sea bass TAL is allocated 49 percent to the commercial sector and 51 percent to the recreational sector. Therefore, this action restores 18,142 lb (8.23 mt) of black sea bass to the 2007 fishery, with 8,890 lb (4.03 mt) provided to the commercial sector and 9,252 lb (4.20 mt) provided to the recreational sector. The resulting 2007 black sea bass TAL is 4,868,142 lb (2,208.23 mt). The new commercial quota is 2,385,390 lb (1,083 mt), and the new recreational harvest limit is 2,482,752 lb (1,126.20 mt) (Table 1).

Table 1. Restoration of Black Sea Bass RSA to TAL, by Fishing Sectors
Fishing Sector | Initial TAL: 4,850,000 lb (220 mt): lb | Initial TAL: 4,850,000 lb (220 mt): mt | Restored Amounts: 18,142 lb (8.23 mt): lb | Restored Amounts: 18,142 lb (8.23 mt): mt | New TAL: 4,868,142 lb (2,208.23 mt): lb | New TAL: 4,868,142 lb (2,208.23 mt): mt
Commercial TAL | 2,376,500 | 1,078 | 8,890 | 4.032 | 2,385,390 | 1,083
Recreational TAL | 2,473,500 | 1,122 | 9,252 | 4.197 | 2,482,752 | 1,126.2

Although 9,252 lb (4.20 mt) of black sea bass are being restored to the recreational harvest limit, this action does not alter the existing recreational management measures that have been established to ensure that the recreational harvest limit is not exceeded.

The Atlantic Mackerel, Squid, and Butterfish FMP only regulates Loligo squid IOY for the commercial sector, and the Loligo squid commercial fishing season operates on a trimester allocation scheme. The unused amount of 68.56 mt of Loligo squid is thus restored proportionally to the 2007 second and third trimesters. The resulting IOY is 16,558.56 mt, with the 68.56 mt restored 29.8 percent (20.43 mt) to the Trimester II allocation, and 70.2 percent (48.13 mt) to the Trimester III allocation. The new Trimester II allocation is 2,823.73 mt, and the new Trimester III allocation is 6,644.13 mt (Table 2).

Table 2. Restoration of Loligo squid RSA to IOY by Trimester seasons (metric tons)
2007 Trimesters | Initial IOY 16,490 | Restored Amount 68.56 | New IOY 16,558.56
Trimester I (Jan-Apr) | 7,090.7 | 0 | 7,090.7
Trimester II (May-Aug) | 2,803.3 | 20.43 | 2,823.73
Trimester III (Sep-Dec) | 6,596.00 | 48.13 | 6,644.13

Classification

This action is required by 50 CFR part 648 and is exempt from review under Excutive Order 12866.

Authority: 16 U.S.C. 1801 et seq.

Dated: July 6, 2007.
Alan D. Risenhoover,
Director, Office of Sustainable Fisheries, National Marine Fisheries Service.

[FR Doc. E7-13555 Filed 7-11-07; 8:45 am]

BILLING CODE 3510-22-S